DEPARTMENT OF LABOR

Office of the Secretary

Submission for OMB Review; Comment Request

November 20, 2002.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by calling the Department of Labor. To obtain documentation contact Darrin King on 202-693-4129 or E-Mail: King-Darrin@dol.gov.

Comments should be sent to Office of Information and Regulatory Affairs, Attn: OMB Desk Officer for ETA, Office of Management and Budget, Room 10235, Washington, DC 20503 (202-395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration (ETA).

Type of Review: New collection.

Title: Local Area Survey of Self-directed Labor Exchange Services.

OMB Number: 1205-ONEW.

Affected Public: State, Local, or Tribal Government.

Type of Response: Reporting.

Frequency: Twice over three years.

Number of Respondents: 605.

Annual Responses: 605.

Average Response Time: 30 minutes.

Total Annual Burden Hours: 303.

Total Annualized Capital/Startup Costs: $0.

Total Annual Costs (operating/maintaining systems or purchasing services): $0.

Description: The data collected on this survey will provide a national snapshot of self-service tools and resources available in local workforce areas and the systems and mechanisms that areas use to track customers' usage, outcomes, and satisfaction with services. In addition to contributing to ETA's understanding of the resources and tools that have been developed for delivery of self-directed services, survey results will be used to select a sample of states and local areas for subsequent in-depth analysis of the quality and cost-effectiveness of self-directed services.

Ira L. Mills,
Departmental clearance Officer.

[FR Doc. 02-30421 Filed 11-29-02; 8:45 am]

BILLING CODE 4510-30-M